Proclamation 9278 of May 8, 2015

Mother's Day, 2015

By the President of the United States of America

A Proclamation

Each May, Americans dedicate a day to honor the remarkable women who strive and sacrifice all year to ensure ours is a Nation where all things are possible. Whether married or single, LGBT or straight, biological, adoptive, or foster, mothers are the bedrocks of our lives and the foundation of our society. They are our first friends and teachers, inspiring us to reach great heights and supporting us no matter the challenges we face or the paths we choose. Today, we come together to celebrate the women who raised us and who love us unconditionally—who do whatever it takes to set us on the road to success and want nothing more than for us to lead happy, healthy lives.

Our Nation's mothers are breadwinners, community leaders, and pillars of family. For generations, they have blazed new paths—from Seneca Falls and Selma to the boardroom, the laboratory, and the forefronts of our military conflicts—opening up new possibilities and widening the circle of opportunity. Today, these pioneers show us what is possible for ourselves and our country. They are our Nation's innovators, tireless workers, engines of economic growth, and drivers of progress. And through their example, they teach our future dreamers and doers about the value of hard work, compassion, service, and personal responsibility.

Today, women are nearly half of the American workforce, and as a Nation, we must ensure our policies reflect this reality because no woman should have to choose between being a productive employee and a responsible mother. All women deserve equal pay for equal work and a living wage, and as President, I have fought tirelessly to advance these commonsense measures. I continue to call for increased workplace flexibility and access to paid leave, including paid sick days, and I have proposed a plan that would make quality child care available to every middle-class and low-income family with young children. I remain committed to tearing down the remaining barriers to mothers' full and equal participation in our economy and society—because when mothers succeed, America succeeds and policies that benefit women and working families benefit us all.

We owe so much to our mothers, and they deserve policies that support them, as well as our profound love and gratitude. On Mother's Day, we give thanks to our mothers who lift us up every day. Let us pay respect to those who continue to offer us generous love and patient counsel and hold fast to the memories of all who live on in our hearts.

The Congress, by a joint resolution approved May 8, 1914 (38 Stat. 770), has designated the second Sunday in May each year as “Mother's Day” and requested the President to call for its appropriate observance.

NOW, THEREFORE, I, BARACK OBAMA, President of the United States of America, do hereby proclaim May 10, 2015, as Mother's Day. I urge all Americans to express love and gratitude to mothers everywhere, and I call upon all citizens to observe this day with appropriate programs, ceremonies, and activities.

IN WITNESS WHEREOF, I have hereunto set my hand this eighth day of May, in the year of our Lord two thousand fifteen, and of the Independence of the United States of America the two hundred and thirty-ninth.

[FR Doc. 2015-11681

Filed 5-12-15; 8:45 am]

Billing code 3295-F5